SOCIAL SECURITY ADMINISTRATION

[Docket No. SSA-2025-0016]

Privacy Act of 1974; System of Records

AGENCY: Social Security Administration (SSA).

ACTION: Notice of a modified system of records.

SUMMARY: In accordance with the Privacy Act of 1974, we are issuing public notice of our intent to modify an existing system of records entitled, Appointments, Visitor Information, and Customer Service Record System (60-0350), last published on November 7, 2022. This notice publishes details of the modified system as set forth below under the caption, SUPPLEMENTARY INFORMATION.

DATES: The system of records notice (SORN) is applicable upon its publication in today's Federal Register with the exception of the new routine use, which is effective September 19, 2025.

We invite public comment on the routine uses or other aspects of this SORN. In accordance with the Privacy Act of 1974, we are providing the public a 30-day period in which to submit comments. Therefore, please submit any comments by September 19, 2025.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2025-0016. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: OGC.OPD.SORN@ssa.gov.

SUPPLEMENTARY INFORMATION: We are updating the system location and manager to reflect the accurate SSA office. We are revising routine use Nos. 2 and 3 for easier reading. We are modifying the administrative, technical, and physical safeguards for easier reading.

We are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER:

Appointments, Visitor Information, and Customer Service Record System, 60-0350.

SECURITY CLASSIFICATION:

Unclassified.

SYSTEM LOCATION:

Social Security Administration, Office of the Chief Information Officer, Robert M. Ball Building, 6401 Security Boulevard, Baltimore, MD 21235-6401.

Information is also located in additional locations in connection with cloud-based services and kept at an additional location as backup for business continuity purposes.

SYSTEM MANAGER(S):

Social Security Administration, Chief Information Officer, Office of the Chief Information Officer, 6401 Security Boulevard, Baltimore, MD 21235-6401, (410) 966-5855.

AUTHORITY FOR MAINTENANCE OF THE SYSTEM:

Sections 205(a), 222, 223, 225, 1611, 1615, 1631, and 1633 of the Social Security Act, as amended; and the Federal Records Act of 1950, as amended.

PURPOSE(S) OF THE SYSTEM:

We use the information in this system of records to:

• Provide management information on interviews;

• Provide a source for customer service record data collection for interviews and capture discrete data about the volume and nature of inquiries to support management decisions in the areas of process improvement and resource allocation;

• Assist with filing claims for benefits under titles II and/or XVI; transacting post-entitlement actions, if currently entitled to benefits under titles II and/or XVI; and transacting applications for a Social Security number (SSN) and other actions related to an SSN;

• Establish, reschedule, or cancel appointments; or other actions or queries that may require an interview at SSA;

• Track opt-in and opt-out of electronic messaging selections; and

• Provide a means of collecting information, and generating “High Risk” alerts, when applicable, concerning individuals we reasonably believe will attempt to contact one of our facilities and may pose a security risk, including individuals who attempt, threaten, or commit an act of violence or a violent crime, or have an outstanding arrest warrant. We will use information collected from the “High Risk” alert to advise the intake employees at any SSA office that the potential security risk may require them to use extra caution when dealing with the individual who is before them and/or who has scheduled an appointment. This information allows us to create a standard approach to ensure the safety of SSA employees, visitors, security personnel, and facilities.

CATEGORIES OF INDIVIDUALS COVERED BY THE SYSTEM:

This system maintains information about individuals who visit an SSA office, including those conducting business with SSA and individuals that may accompany such visitor; individuals who establish, reschedule, or cancel an appointment with SSA (e.g., applicants, claimants, beneficiaries, recipients, third-party assistors, attorneys, non-attorney representatives, and representative payees); and individuals we reasonably believe will attempt to contact one of our facilities to conduct business and may pose a security risk, including those who attempt, threaten, or commit an act of violence or a violent crime or have an outstanding arrest warrant.

CATEGORIES OF RECORDS IN THE SYSTEM:

This system maintains records on visitors including, but not limited to:

• Visitor information, such as SSN; name; date of birth; relationship to the applicant or beneficiary; mailing address; email address; telephone number; the time the visitor entered and left the office; an assigned group number; and the number of interviews and any remarks associated with the visit;

• Appointment information, such as date, time, type, and source of appointment; appointment unit number (unit establishing appointment); length of the appointment; internal agency processing reference numbers (e.g., transaction number or unique identifier); opt-in and opt-out of electronic messaging selections; and the name of office facilitating the appointment;

• Notice information, such as close-out notice type (e.g., title II 6-month closeout letter, title XVI SSA-L991) and date/time sent;

• Confirmations of scheduled, rescheduled, and cancelled appointments;

• Interview information, such as each occurrence; subject of interview; waiting time; preferred language; type of translator; the number of the interviews pending in the queue; interview disposition (e.g., completed, deleted, left without service); interview priority; start and end time; and name of interviewer;

• “High Risk” alert information about individuals we reasonably believe will attempt to contact one of our facilities and may pose a security risk, including individuals who attempt, threaten, or commit an act of violence or a violent crime or have an outstanding arrest warrant (e.g., name, SSN, date of birth, specific nature of the threat or act of violence, and the date, time, and location of the threat or act of violence); and

• Source of the report from the Automated Incident Reporting System.

RECORD SOURCE CATEGORIES:

We obtain information in this system from individuals who schedule, reschedule, or cancel appointments, visit, or participate in interviews at SSA, which may include applicants, claimants, beneficiaries, appointed representatives, representative payees, and third parties; local, State, and Federal agencies; SSA-generated information, such as computer date/time stamps at various points in the interview process; and additional existing SSA systems of records such as the Master Files of SSN Holders and SSN Applications, 60-0058; Claims Folders System, 60-0089; Master Beneficiary Record, 60-0090; Supplemental Security Income Record and Special Veterans Benefits, 60-0103; Pay, Leave, and Attendance Records, 60-0238; Personnel Records in Operating Offices, 60-0239; Electronic Disability Claim File, 60-0320; Requests for Accommodations from Members of the Public (RAMP), 60-0378; and Social Security Administration Violence Evaluation and Reporting System, 60-0379.

ROUTINE USES OF RECORDS MAINTAINED IN THE SYSTEM, INCLUDING CATEGORIES OF USERS AND PURPOSES OF SUCH USES:

We will disclose records pursuant to the following routine uses; however, we will not disclose any information defined as “return or return information” under 26 U.S.C. 6103 of the Internal Revenue Code (IRC), unless authorized by a statute, the Internal Revenue Service (IRS), or IRS regulations.

1. To the Office of the President, in response to an inquiry from that office made on behalf of, and at the request of, the subject of the record or a third party acting on the subject's behalf.

2. To a congressional office in response to an inquiry from that office made on behalf of, and at the request of, the subject of the record.

3. To the Department of Justice (DOJ), a court or other tribunal, or another party before such court or tribunal, when:

(a) SSA, or any component thereof; or

(b) any SSA employee in the employee's official capacity; or:

(c) any SSA employee in the employee's individual capacity where DOJ (or SSA, where it is authorized to do so) has agreed to represent the employee; or

(d) the United States or any agency thereof where we determine the litigation is likely to affect SSA or any of its components, SSA is a party to the litigation or has an interest in such litigation, and SSA determines that the use of such records by DOJ, a court or other tribunal, or another party before the tribunal is relevant and necessary to the litigation, provided, however, that in each case, we determine that such disclosure is compatible with the purpose for which the records were collected.

4. To contractors and other Federal agencies, as necessary, for assisting SSA in the efficient administration of its programs. We will disclose information under this routine use only in situations in which SSA may enter into a contractual or similar agreement with a third party to assist in accomplishing an agency function relating to this system of records.

5. To student volunteers, individuals working under a personal services contract, and other workers who technically do not have the status of Federal employees, when they are performing work for us, as authorized by law, and they need access to personally identifiable information (PII) in our records in order to perform their assigned agency functions.

6. To the National Archives and Records Administration (NARA) under 44 U.S.C. 2904 and 2906.

7. To Federal, State, and local law enforcement agencies and private security contractors, as appropriate, information necessary:

(a) to enable them to ensure the safety of our employees and customers, the security of our workplace, and the operation of our facilities; or

(b) to assist investigations or prosecutions with respect to activities that affect such safety and security or activities that disrupt the operation of our facilities.

8. To the appropriate law enforcement official, SSA may disclose information regarding a Social Security beneficiary, claimant, attorney, non-attorney representative, or representative payee who is the subject of an outstanding arrest warrant for having committed, or having attempted to commit, a violent crime for the purposes of determining whether SSA should include an individual's information in this system or remove an individual's information from the system because they no longer meet the criteria (e.g., the individual is in custody of law enforcement, is no longer a suspect, has been exonerated, or is deceased).

9. To another Federal agency or Federal entity, when we determine that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

10. To appropriate agencies, entities, and persons when:

(a) SSA suspects or has confirmed that there has been a breach of the system of records;

(b) SSA has determined that, as a result of the suspected or confirmed breach, there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

11. To third parties when an individual involved with a request needs assistance to communicate because of a hearing impairment or a language barrier (e.g., to interpreters, telecommunications relay system operators).

12. To contractors, cooperative agreement awardees, State agencies, Federal agencies, and Federal congressional support agencies for research and statistical activities that are designed to increase knowledge about present or alternative Social Security programs; are of importance to the Social Security program or beneficiaries; or are for an epidemiological project that relates to the Social Security program or beneficiaries. We will disclose information under this routine use pursuant only to a written agreement between the organization or agency and SSA.

POLICIES AND PRACTICES FOR STORAGE OF RECORDS:

We maintain records in this system in electronic form.

POLICIES AND PRACTICES FOR RETRIEVAL OF RECORDS:

We will retrieve records by SSN, name, date of birth, and internal agency processing reference numbers.

POLICIES AND PRACTICES FOR RETENTION AND DISPOSAL OF RECORDS:

In accordance with NARA rules codified at 36 CFR 1225.16, we maintain records in accordance with approved NARA General Records Schedule (GRS) 3.1, item 011 and GRS 6.5, item 010.

ADMINISTRATIVE, TECHNICAL, AND PHYSICAL SAFEGUARDS:

We retain electronic files containing personal identifiers in secure storage areas accessible only by authorized individuals, including our employees and contractors, who have a need for the information when performing their official duties. Security measures include, but are not limited to, the use of codes and profiles, personal identification numbers and passwords, and personal identification verification cards. We restrict access to specific correspondence within the system based on assigned roles and authorized users. We use audit mechanisms to record sensitive transactions as an additional measure to protect information from unauthorized disclosure or modification.

We annually provide authorized individuals, including our employees and contractors, with appropriate security awareness training that includes reminders about the need to protect PII and the criminal penalties that apply to unauthorized access to, or disclosure of, PII (5 U.S.C. 552a(i)(1)). Furthermore, authorized individuals with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) a notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

87 FR 67106 (November 7, 2022), Appointments, Visitor Information, and Customer Service Record System.

[FR Doc. 2025-15843 Filed 8-19-25; 8:45 am]

BILLING CODE 4191-02-P